DEPARTMENT OF JUSTICE

[OMB Number 1125-XXXX]

Agency Information Collection Activities; Proposed eCollection eComments Requested; Change of Address/Contact Information Form

AGENCY: Executive Office for Immigration Review, Department of Justice.

ACTION: 30-Day notice.

SUMMARY: The Executive Office for Immigration Review, Department of Justice (DOJ), will be submitting the following information collection request to the Office of Management and Budget (OMB) for review and approval in accordance with the Paperwork Reduction Act of 1995.

DATES: Comments are encouraged and will be accepted for 30 days until October 16, 2024.

FOR FURTHER INFORMATION CONTACT: If you have comments especially on the estimated public burden or associated response time, suggestions, or need a copy of the proposed information collection instrument with instructions or additional information, please contact: Justine Fuga, Attorney Advisor, Office of the General Counsel, Executive Office for Immigration Review, 5107 Leesburg Pike, Suite 2600, Falls Church, VA 22041, telephone: (571) 294-2272, EOIR.PRA.Comments@usdoj.gov or Justine.Fuga@usdoj.gov.

SUPPLEMENTARY INFORMATION: The proposed information collection was previously published in the Federal Register on July 3, 2024, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-XXXX. This information collection request may be viewed at www.reginfo.gov. Follow the instructions to view Department of Justice, information collections currently under review by OMB.

DOJ seeks Paperwork Reduction Act (PRA) authorization for this information collection for three (3) years. OMB authorization for an information collection request (ICR) cannot be for more than three (3) years without renewal. The DOJ notes that information collection requirements submitted to the OMB for existing ICRs receive a month-to-month extension while they undergo review.

Overview of This Information Collection

1. Type of Information Collection: New mandatory collection.

2. Title of the Form/Collection: Change of Address/Contact Information Form.

3. Agency form number, if any, and the applicable component of the Department of Justice sponsoring the collection: The agency form numbers are EOIR-33/IC and EOIR-33/BIA, and the Executive Office for Immigration Review is the Department component sponsoring the collection.

4. Affected public who will be asked or required to respond, as well as a brief abstract:

Affected Public: Individuals and households.

Abstract: Pursuant to 8 U.S.C. 1229(a)(1)(F)(ii) and 8 CFR l003.15(d)(2), individuals in EOIR immigration proceedings must provide the Immigration Court or Board of Immigration Appeals (BIA) with written notice of changes to the individual's address and contact information within five days of any change. To assist individuals in providing such written notice to the agency, EOIR created the Form EOIR-33. The form collects the individual's name, alien registration number (A-number), former and current contact information (address, phone number, and email address), and signature. The form instructs that an individual must serve a copy of the Form EOIR-33 on the opposing party. This information collection is required when an individual in EOIR immigration proceedings changes their address or contact information. The Form EOIR-33 is used by EOIR to maintain up to date mailing addresses and contact information of individuals who are subjects of immigration proceedings before the Immigration Courts and BIA so that individuals receive official communications about their immigration proceedings from EOIR and the opposing party. EOIR created two versions of the Form EOIR-33, one for submission to the Immigration Court (EOIR-33/IC) and one for submission to the BIA (EOIR-33/BIA). Both versions of the form are available in seven languages (English, Spanish, Chinese, Haitian Creole, Portuguese, Punjabi, and Russian) and may be filed with the agency and served on the opposing party electronically or by mail or hand delivery.

5. Obligation to Respond: Mandatory. See 8 U.S.C. 1229(a)(1)(F)(ii); 8 CFR l003.15(d)(2).

6. Total Estimated Number of Respondents: 321,457.

7. Estimated Time per Respondent: 5 minutes.

8. Frequency: Annually.

9. Total Estimated Annual Time Burden: 26,681.

10. Total Estimated Annual Other Costs Burden: $0.

If additional information is required, contact: Darwin Arceo, Department Clearance Officer, Policy and Planning Staff, Justice Management Division, United States Department of Justice, Two Constitution Square, 145 N Street NE 4W-218, Washington, DC 20530.

Dated: September 11, 2024.
Darwin Arceo,
Department Clearance Officer for PRA, U.S. Department of Justice.

[FR Doc. 2024-20961 Filed 9-13-24; 8:45 am]

BILLING CODE 4410-30-P